SECURITIES AND EXCHANGE COMMISSION

Sunshine Act Meetings

Notice is hereby given, pursuant to the provisions of the Government in the Sunshine Act, Public Law 94-409, that the Securities and Exchange Commission will hold Closed Meetings on Wednesday, May 16, 2012 at 11:30 a.m., Thursday, May 17, 2012 at 10:00 a.m., and Friday, May 18, 2012 at 11:00 a.m.

The General Counsel of the Commission, or his designee, has certified that, in his opinion, one or more of the exemptions as set forth in 5 U.S.C. 552b(c)(2), (4), (6) and (8) and 17 CFR 200.402(a)(2), (4), (6) and (8), permit consideration of the scheduled matter at the Closed Meetings. Certain staff members who have an interest in the matter also may be present.

Commissioner Gallagher, as duty officer, voted to consider the items listed for the Closed Meetings in closed sessions, and determined that no earlier notice thereof was possible.

The subject matter of the Closed Meetings on May 16 and 18 will be an examination of a financial institution.

The subject matter of the Closed Meeting on May 17 will be examination of financial institutions and a personnel matter.

At times, changes in Commission priorities require alterations in the scheduling of meeting items. For further information and to ascertain what, if any, matters have been added, deleted or postponed, please contact the Office of the Secretary at (202) 551-5400.

Dated: May 16, 2012.
Kevin M. O'Neill,
Deputy Secretary.

[FR Doc. 2012-12356 Filed 5-17-12; 4:15 pm]

BILLING CODE 8011-01-P